DEPARTMENT OF COMMERCE

National Oceanic and Atmospheric Administration

50 CFR Part 635

RIN 0648-XR10

Atlantic Highly Migratory Species; Inseason Action to Close the Commercial Sandbar Shark Research Fishery

AGENCY: National Marine Fisheries Service (NMFS), National Oceanic and Atmospheric Administration (NOAA), Commerce.

ACTION: Fishery closure.

SUMMARY: NMFS is closing the commercial sandbar shark research fishery. This action is necessary because NMFS estimated that landings in this fishery have exceeded 80 percent of the available quota.

DATES: The commercial sandbar shark research fishery is closed effective 11:30 p.m. local time October 13, 2009, until the effective date of the final 2010 shark season specifications in which NMFS will publish a separate document in the Federal Register.

FOR FURTHER INFORMATION CONTACT: Karyl Brewster-Geisz or Guy DuBeck, 301-713-2347; fax 301-713-1917.

SUPPLEMENTARY INFORMATION: The Atlantic shark fisheries are managed under the 2006 Consolidated Atlantic Highly Migratory Species (HMS) Fishery Management Plan (FMP), its amendments, and its implementing regulations found at 50 CFR part 635 and issued under authority of the Magnuson-Stevens Fishery Conservation and Management Act (16 U.S.C. 1801 et seq.).

Under § 635.5(b)(1), shark dealers are required to report to NMFS, every two weeks, on all Atlantic sharks they have received. Dealer reports for fish received between the 1st and 15th of the month must be received by NMFS by the 25th of that month. Dealer reports for fish received between the 16th and the end of any month must be received by NMFS by the 10th of the following month. In addition, shark landings within the shark research fishery are monitored via scientific observer reports. Under 50 CFR 635.28(b)(2), when NMFS projects that fishing season landings for a specific shark quota have reached or are about to reach 80 percent of the available quota, NMFS will file for publication with the Office of the Federal Register a notice of closure for that shark species group that will be effective no fewer than 5 days from the date of filing. From the effective date and time of the closure until NMFS announces, via a notice in the Federal Register, that additional quota is available and the season is reopened, the fishery for that specific quota is closed, even across fishing years.

On December 24, 2008, NMFS announced that the sandbar shark quota for the shark research fishery for the 2009 fishing year would be 87.5 metric tons (mt) dressed weight (dw) (193,784 lb dw). Scientific observer reports received through June 26, 2009, and dealer reports through August 26, 2009, indicate that 79.6 mt dw or 90.5 percent of the available quota for the sandbar shark research fishery has been taken. Accordingly, NMFS is closing the commercial sandbar shark research fishery as of 11:30 p.m. local time October 13, 2009. The SCS and pelagic shark fisheries will remain open.

During this closure, a fishing vessel, issued an Atlantic Shark Limited Access Permit (LAP) pursuant to § 635.4, may not possess or sell a sandbar shark, except under the conditions specified in § 635.22(a) and (c) or if the vessel possesses a valid shark research permit under § 635.32 and an NMFS-approved observer is onboard. A shark dealer, issued a permit pursuant to § 635.4, may not purchase or receive sandbar sharks, except that a permitted shark dealer or processor may possess sandbar sharks that were harvested, off-loaded, and sold, traded, or bartered, prior to the effective date of the closure and were held in storage. Additionally, a shark dealer issued a Federal permit, pursuant to § 635.4 may, in accordance with state regulations, purchase or receive a sandbar shark if the shark was harvested, off-loaded, and sold, traded, or bartered from a vessel that fishes only in state waters and had not been issued a Shark LAP, HMS Angling permit, or HMS CHB permit under § 635.4.

Classification

Pursuant to 5 U.S.C. 553(b)(B), the Assistant Administrator for Fisheries, NOAA (AA), finds that providing for prior notice and public comment for this action is impracticable and contrary to the public interest because the fisheries are currently underway, and any delay in this action would cause overharvest of the quota and be inconsistent with management requirements and objectives. Similarly, affording prior notice and opportunity for public comment on this action is contrary to the public interest because, if the quota is exceeded, the affected public is likely to experience reductions in the available quota and a lack of fishing opportunities in future seasons. Thus, for these reasons, the AA also finds good cause to waive the 30-day delay in effective date pursuant to 5 U.S.C. 553 (d)(3).

This action is required under 50 CFR 635.28(b)(2) and is exempt from review under Executive Order 12866.

Authority: 16 U.S.C. 1801 et seq.

Dated: September 29, 2009.
Emily H. Menashes,
Acting Director, Office of Sustainable Fisheries, National Marine Fisheries Service.

[FR Doc. E9-23951 Filed 10-5-09; 8:45 am]

BILLING CODE 3510-22-S